Title 3—

The President

Executive Order 13504 of February 20, 2009

Amending Executive Order 13390

By the authority vested in me as President by the Constitution and the laws of the United States of America, including the Robert T. Stafford Disaster Relief and Emergency Assistance Act, as amended (42 U.S.C. 5121-5206), and in order to extend the work of the Coordinator of Federal Support for the Recovery and Rebuilding of the Gulf Coast Region, Executive Order 13390 of November 1, 2005, as amended, is further amended by striking “February 28, 2009” and inserting in lieu thereof “September 30, 2009”.

THE WHITE HOUSE,

February 20, 2009.

[FR Doc. E9-4103

Filed 2-23-09; 11:15 am]

Billing code 3195-W9-P